Proclamation 8153 of June 1, 2007

Caribbean-American Heritage Month, 2007

By the President of the United States of America

A Proclamation

During June, we recognize Caribbean Americans and celebrate the many ways they contribute to our Nation.

Generations of Caribbean Americans have helped shape the spirit and character of our country. These individuals are justly proud of their Caribbean roots, and they enrich the American experience by sharing their traditions, history, and values. Caribbean Americans of all walks of life have added to the vitality, success, and prosperity of our country. Their hard work and determination inspire all who dream of a better life for themselves and their families.

Our Nation is deeply grateful to the Caribbean Americans who defend our liberty as members of our Armed Forces. The service and sacrifice of these courageous men and women are helping lay the foundation of peace for generations to come.

NOW, THEREFORE, I, GEORGE W. BUSH, President of the United States of America, by virtue of the authority vested in me by the Constitution and laws of the United States, do hereby proclaim June 2007 as Caribbean-American Heritage Month. I encourage all Americans to learn more about the history and culture of Caribbean Americans and their contributions to our Nation.

IN WITNESS WHEREOF, I have hereunto set my hand this first day of June, in the year of our Lord two thousand seven, and of the Independence of the United States of America the two hundred and thirty-first.

[FR Doc. 07-2826

Filed 6-4-07; 8:55 am]

Billing code 3195-01-P